ENVIRONMENTAL PROTECTION AGENCY

[EPA-HQ-OAR-2021-0099; FRL-10002-01-OMS]

Information Collection Request Submitted to OMB for Review and Approval; Comment Request; NESHAP for Wet-Formed Fiberglass Mat Production (Renewal)

AGENCY: Environmental Protection Agency (EPA).

ACTION: Notice.

SUMMARY: The Environmental Protection Agency (EPA) has submitted an information collection request (ICR), NESHAP for Wet-Formed Fiberglass Mat Production (EPA ICR Number 1964.10, OMB Control Number 2060-0496), to the Office of Management and Budget (OMB) for review and approval in accordance with the Paperwork Reduction Act. This is a proposed extension of the ICR, which is currently approved through September 30, 2022. Public comments were previously requested, via the Federal Register, on April 13, 2021, during a 60-day comment period. This notice allows for an additional 30 days for public comments. A fuller description of the ICR is given below, including its estimated burden and cost to the public. An agency may neither conduct nor sponsor, and a person is not required to respond to a collection of information, unless it displays a currently valid OMB control number.

DATES: Additional comments may be submitted on or before August 8, 2022.

ADDRESSES: Submit your comments, referencing Docket ID Number EPA-HQ-OAR-2021-0099, online using www.regulations.gov (our preferred method) or by mail to: EPA Docket Center, Environmental Protection Agency, Mail Code 2821T, 1200 Pennsylvania Ave. NW, Washington, DC 20460. EPA's policy is that all comments received will be included in the public docket without change including any personal information provided, unless the comment includes profanity, threats, information claimed to be Confidential Business Information (CBI), or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Muntasir Ali, Sector Policies and Program Division (D243-05), Office of Air Quality Planning and Standards, U.S. Environmental Protection Agency, Research Triangle Park, North Carolina, 27711; telephone number: (919) 541-0833; email address: ali.muntasir@epa.gov.

SUPPLEMENTARY INFORMATION: Supporting documents, which explain in detail the information that the EPA will be collecting, are available in the public docket for this ICR. The docket can be viewed online at https://www.regulations.gov, or in person at the EPA Docket Center, WJC West Building, Room 3334, 1301 Constitution Ave. NW, Washington, DC. The telephone number for the Docket Center is 202-566-1744. For additional information about EPA's public docket, visit: http://www.epa.gov/dockets.

Abstract: The National Emission Standards for Hazardous Air Pollutants (NESHAP) for Wet-formed Fiberglass Mat Production were proposed on May 26, 2000, promulgated on April 11, 2002, and amended on: April 20, 2006; February 28, 2019; and November 19, 2020. The NESHAP is codified at 40 CFR part 63, subpart HHHH. The NESHAP apply to wet-formed fiberglass mat production facilities that emit greater than or equal to 10 tons per year (tpy) of any one hazardous air pollutant (HAP), or greater than or equal to 25 tpy of any combination of HAP. Affected sources include new and existing drying and curing ovens. The pollutants regulated include organic HAP, using formaldehyde as a surrogate. New facilities include those that commenced construction or reconstruction after the date of the original proposal (May 26, 2000). The NESHAP standards require initial notifications, performance tests, and semi-annual reports by the owners/operators of the affected facilities. This information is being collected to assure compliance with 40 CFR part 63, subpart HHHH.

Form Numbers: None.

Respondents/affected entities: Wet-formed fiberglass mat production facilities.

Respondent's obligation to respond: Mandatory (40 CFR 63, subpart HHHH).

Estimated number of respondents: 7 (total).

Frequency of response: Semi-annually.

Total estimated burden: 1,470 hours (per year). Burden is defined at 5 CFR 1320.3(b).

Total estimated cost: $174,000 (per year), which includes $0 in annualized capital/startup and/or operation & maintenance costs.

Changes in the Estimates: There is no change in the total estimated burden as currently identified in the OMB Inventory of Approved Burdens. This ICR adjusts the time required for facilities to familiarize themselves with the rule requirements in each year from 8 hours for 2.33 respondents to 2 hours per year for 7 respondents; however, there is no significant change in the total burden hours due to rounding.

Courtney Kerwin,
Director, Regulatory Support Division.

[FR Doc. 2022-14491 Filed 7-6-22; 8:45 am]

BILLING CODE 6560-50-P